DEPARTMENT OF THE INTERIOR

National Park Service

National Park System Advisory Board; Meeting

AGENCY: National Park Service, Interior.

ACTION: Notice of meeting.

Notice is hereby given in accordance with the Federal Advisory Committee Act, 5 U.S.C. Appendix 1-16, that the National Park System Advisory Board will meet May 21-23, 2001, in Gatlinburg, Tennessee. The Board will tour Great Smoky Mountains National Park on May 21, and will convene its business meeting on May 22 and 23 in the Banquet Room of Calhoun's Restaurant, 1004 Parkway, Gatlinburg, Tennessee 37738.

The Board will convene from 8:30 a.m., until 5 p.m., on May 22 and 23. The Board will consider procedural matters relative to completing its study of the future of the National Park Service and the National Park System. National Historic Landmark nominations will be considered by the Board during the morning session on May 22.

The Board may be addressed at various times by officials of the National Park Service and the Department of the Interior; and other miscellaneous topics and reports may be covered. The order of the agenda may be changed, if necessary, to accommodate travel schedules or for other reasons.

The Board meeting will be open to the public. Space and facilities to accommodate the public are limited and attendees will be accommodated on a first-come basis. Anyone may file with the Board a written statement concerning matters to be discussed. The Board may also permit attendees to address the Board, but may restrict the length of the presentations, as necessary to allow the Board to complete its agenda within the allotted time.

Anyone who wishes further information concerning the meeting, or who wishes to submit a written statement, may contact Mr. Loran Fraser, Office of Policy, National Park Service, 1849 C Street, NW, Washington, DC 20240 (telephone 202-208-7456).

Draft minutes of the meeting will be available for public inspection about 12 weeks after the meeting, in room 2414, Main Interior Building, 1849 C Street, NW., Washington, DC.

Dated: April 17, 2001.
Shirley Sears Smith,
Committee Management Officer, National Park Service.

[FR Doc. 01-11133 Filed 5-2-01; 8:45 am]

BILLING CODE 4310-70-U